DEPARTMENT OF ENERGY

Federal Energy Regulatory Commission

[Docket No. RM01-5-000]

Electronic Tariff Filings; Notice of Technical Conference, Comment Deadline and Electronic Format Manual

March 1, 2006.

Take notice that on March 28, 2006, Federal Energy Regulatory Commission (Commission) staff will host a technical conference to discuss the electronic tariff and rate case filing software that has been developed in connection with the Notice of Proposed Rulemaking (NOPR) requiring electronic tariff filings. Electronic Tariff Filings, Notice of Proposed Rulemaking, 69 FR 43929 (July 23, 2004) FERC Stats. & Regs., Proposed Regulations ¶ 32,575 (July 8, 2004). The technical conference will be held from 9 a.m. until 4 p.m. (EDT) at the Federal Energy Regulatory Commission, 888 First Street, NE., Washington, DC 20426, in the Commission Meeting Room. The agenda shall include a demonstration of the electronic tariff filing software. Topics to be discussed include the tariff conversion process and the electronic tariff filing process.

The Commission hereby establishes May 30, 2006 as the final date for comments on the July 8, 2004 NOPR. See Electronic Tariff Filings, Notice of Additional Proposals and Procedures, 70 FR 40941 (July 15, 2005) FERC Stats. & Regs., ¶ 35,551 (July 6, 2005).

Information related to this conference is available on the Commission's Web site (http://www.ferc.gov; click on eTariff under the Documents and Filings Heading). The software is available to download and test at http://www.ferc.gov/docs-filing/etariff.asp. An updated draft electronic format manual for electronic tariff and rate filings to be made in conformance with the NOPR describes the specific requirements for making electronic filings (http://www.ferc.gov/docs-filing/etariff/fil-soft-help/electronic-manual.pdf). An early prototype of a viewer to be used by the public to access tariffs is being made available (http://www.ferc.gov/docs-filing/etariff/tariff-public-viewer.asp). This public viewer is expected to be enhanced significantly by the time the electronic tariff filing is implemented. Further, the company registration window is available for viewing on the FERC Web site (http://www.ferc.gov/images/docs-filing/etariff_init_reg.gif). The registration window is not yet functional, but is presented to show the information that will be required for jurisdictional companies to provide when they register and obtain a “Company Identification Number” for the purpose of electronically submitting tariff filings with the Commission.

A free webcast of this event is available through http://www.ferc.gov. Anyone with Internet access who desires to view this event can do so by navigating to http://www.ferc.gov's Calendar of Events and locating this event in the Calendar. The event will contain a link to its webcast. The Capitol Connection provides technical support for the free webcasts. It also offers access to this event via television in the DC area and via phone bridge for a fee. If you have any questions, visit http://www.CapitolConnection.org or contact Danelle Perkowski or David Reininger at 703-993-3100.

The conference is open to the public to attend, and pre-registration is not required.

FERC conferences are accessible under section 508 of the Rehabilitation Act of 1973. For accessibility accommodations please send an e-mail to accessibility@ferc.gov or call toll free 1-866-208-3372 (voice) or 202-208-1659 (TTY), or send a FAX to 202-208-2106 with the required accommodations.

For more information about this conference, please contact Keith Pierce, Office of Energy Markets and Reliability at (202) 502-8525 or Keith.Pierce@ferc.gov.

Magalie R. Salas,
Secretary.

[FR Doc. E6-3208 Filed 3-7-06; 8:45 am]

BILLING CODE 6717-01-P